DEPARTMENT OF THE INTERIOR

Fish and Wildlife Service

50 CFR Part 17

[Docket No. FWS-R1-ES-2012-0097: FXES11130900000C2-156-FF09E32000]

RIN 1018-AZ74

Endangered and Threatened Wildlife and Plants; Proposed Rule To Amend the Listing of the Southern Selkirk Mountains Population of Woodland Caribou

AGENCY: Fish and Wildlife Service, Interior.

ACTION: Proposed rule; reopening of comment period.

SUMMARY: We, the U.S. Fish and Wildlife Service (Service), announce the reopening of the public comment period on our May 8, 2014, proposed rule to amend the listing of the southern Selkirk Mountains population of woodland caribou (Rangifer tarandus caribou) to the Southern Mountain caribou distinct population segment (DPS). The southern Selkirk Mountains population of woodland caribou is currently listed as endangered under the Endangered Species Act of 1973, as amended (Act). On May 8, 2014, we proposed to list the Southern Mountain caribou DPS as threatened under the Act. This reopening of comment period will provide all interested parties with an opportunity to review additional scientific information and provide comment on the status of the Southern Mountain caribou DPS. Information previously submitted need not be resubmitted as it has already been incorporated into the public record and will be fully considered in the final listing determination.

DATES: The comment period for the proposed rule published May 8, 2014, at 79 FR 26504, is reopened. We will consider comments received or postmarked on or before April 23, 2015. Comments submitted electronically using the Federal eRulemaking Portal (see ADDRESSES section, below) must be received by 11:59 p.m. Eastern Time on the closing date. Any comments that we receive after the closing date may not be considered in the final decision on this action.

ADDRESSES: Document availability: You may obtain a copy of the proposed rule and associated documents on the Internet at http://www.regulations.gov at Docket No. FWS-R1-ES-2012-0097, or by contacting the U.S. Fish and Wildlife Service, Idaho Fish and Wildlife Office (see FOR FURTHER INFORMATION CONTACT).

Comment submission: You may submit written information by one of the following methods:

(1) Electronically: Go to the Federal eRulemaking Portal: http://www.regulations.gov. In the Search box, enter FWS-R1-ES-2012-0097, which is the docket number for this rulemaking. Then, click the Search button. In the Search panel on the left side of the screen, under the Document Type heading, click on the box next to “Proposed Rule” to locate this document. You may submit a comment by clicking on “Comment Now!” Please ensure that you have found the correct rulemaking before submitting your comment.

(2) By hard copy: Submit by U.S. mail or hand-delivery to: Public Comments Processing, Attn: FWS-R1-ES-2012-0097; Division of Policy and Directives Management; U.S. Fish and Wildlife Service, MS: BPHC; 5275 Leesburg Pike; Falls Church, VA 22041-3803.

We request that you send comments only by the methods described above. We will post all comments received on http://www.regulations.gov. This generally means that we will post any personal information you provide us (see the Information Requested section, below, for more information).

FOR FURTHER INFORMATION CONTACT: Michael Carrier, State Supervisor, Idaho Fish and Wildlife Office, 1387 S. Vinnell Way, Room 368, Boise, ID (telephone 208-378-5243; facsimile 208-378-5262). If you use a telecommunications device for the deaf (TDD), please call the Federal Information Relay Service at 800-877-8339.

SUPPLEMENTARY INFORMATION:

Background

On May 8, 2014, we published in the Federal Register (79 FR 26504) a document consisting of: (1) A 12-month finding on a petition to delist the southern Selkirk Mountains population of woodland caribou (Rangifer tarandus caribou); (2) a proposed rule to amend the current listing of this population by defining the Southern Mountain caribou DPS, which includes the currently listed southern Selkirk Mountains population of woodland caribou, and to list that DPS as threatened under the Act (16 U.S.C. 1531 et seq.); and (3) a determination that the approximately 30,010 acres (12,145 hectares) designated as critical habitat on November 28, 2012 (77 FR 71042), for the southern Selkirk Mountains population of woodland caribou is applicable to the U.S. portion of the proposed Southern Mountain Caribou DPS. The May 8, 2014, proposed rule had a 60-day public comment period, ending July 7, 2014. On June 10, 2014, we extended the public comment period an additional 30 days, ending on August 6, 2014, and we announced the scheduling of two public informational sessions and hearings, which were held on June 25, 2014, in Sandpoint, Idaho, and on June 26, 2014, in Bonners Ferry, Idaho (79 FR 33169).

Subsequent to the closing of the public comment period on August 6, 2014, the Committee on the Status of Endangered Wildlife in Canada (COSEWIC) finalized their assessment of the biological status of the Southern Mountain caribou population, changing it from threatened to endangered. In August 2014, COSEWIC, in accordance with Canada's federal Species At Risk Act (SARA), submitted their assessment of endangered biological status to the Canadian federal Environment Minister for consideration of changing the legal status of the Southern Mountain caribou in Canada under SARA to endangered. The recommended change in the legal status under SARA is pending review and decision by the federal Environment Minister. Although we were aware that COSEWIC's assessment was underway and we received some of the preliminary information contained in their assessment, we were not able to incorporate the information into our proposed rule (79 FR 26504, May 8, 2014), because the assessment was not yet finalized by COSEWIC. The assessment is now available from COSEWIC for public review (http://www.registrelep-sararegistry.gc.ca/document/default_e.cfm?documentID=2575) and is also available for public inspection at http://www.regulations.gov at Docket No. FWS-R1-ES-2012-0097. The 2014 COSEWIC assessment provides an updated synthesis and review of existing data and information about the species in Canada since the previous assessment by COSEWIC in 2002. The updated assessment includes an analysis of population size and trend and current threats to the population. Additionally, the assessment considered two population viability analyses, which are also available for public inspection at http://www.regulations.gov at Docket No. FWS-R1-ES-2012-0097. This assessment, along with the population viability analyses, will be important sources of information for our status review and final listing determination for the Southern Mountain caribou DPS.

Additionally, peer review of the proposed amended listing was conducted, and the report is available at http://www.regulations.gov at Docket No. FWS-R1-ES-2012-0097.

Information Requested

We intend that any final action resulting from the proposed rule will be based on the best scientific and commercial data available, and be as accurate and complete as possible. Therefore, we are again seeking written comments and information from other concerned Federal and State agencies, the scientific community, or any other interested party during this reopened comment period on our proposed rule that published in the Federal Register on May 8, 2014 (79 FR 26504). We are particularly interested in comments and information regarding the current status and population trends of the local populations that comprise the proposed Southern Mountain caribou DPS. This information will be used to determine the status of the DPS as either not warranted for listing, threatened, or endangered.

If you submitted comments or information on the proposed rule (79 FR 26504) during the initial comment period from May 8, 2014, to July 6, 2014, or the extended comment period (79 FR 33169) from July 7, 2014, to August 6, 2014, please do not resubmit them. We have incorporated them into the public record as part of the original comment period, and we will fully consider them in our final determination.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning the proposed rule by one of the methods listed in ADDRESSES. We request that you send comments only by the methods described in ADDRESSES. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2012-0097, or by appointment, during normal business hours, at the U.S. Fish and Wildlife Service, Idaho Fish and Wildlife Office (see FOR FURTHER INFORMATION CONTACT).

Authority

The authority for this action is the Endangered Species Act of 1973, as amended (16 U.S.C. 1531 et seq.).

Dated: March 11, 2015.
Robert Dreher,
Acting Director, U.S. Fish and Wildlife Service.

[FR Doc. 2015-06640 Filed 3-23-15; 8:45 am]

BILLING CODE 4310-55-P